DEPARTMENT OF HOMELAND SECURITY

Coast Guard

33 CFR Part 165

[USCG-2012-0375]

RIN 1625-AA00

Safety Zone; Milwaukee Harbor, Milwaukee, WI

AGENCY: Coast Guard, DHS.

ACTION: Notice of enforcement of regulation.

SUMMARY: The Coast Guard will enforce a safety zone for annual fireworks events in the Captain of the Port Sector Lake Michigan zone at various times from 10:00 p.m. on July 19, 2012 through 11:00 p.m. on July 28, 2012 and then again from 10:15 p.m. through 11:00 p.m. on August 19, 2012. This action is necessary and intended to ensure safety of life on the navigable waters immediately prior to, during, and immediately after fireworks events. During the aforementioned periods, the Coast Guard will enforce restrictions upon, and control movement of, vessels in a specified area immediately prior to, during, and immediately after fireworks events. During the enforcement period, no person or vessel may enter the safety zone without permission of the Captain of the Port, Sector Lake Michigan.

DATES: The regulations in 33 CFR 165.935 will be enforced at various times between 10:00 p.m. on July 19, 2012 and 11:00 p.m. on July 28, 2012 and then again between 10:15 p.m. and 11:00 p.m. on August 19, 2012.

FOR FURTHER INFORMATION CONTACT: If you have questions on this notice, call or email CWO Jon Grob, Prevention Department, Coast Guard Sector Lake Michigan, Milwaukee, WI at (414) 747-7188, email Jon.K.Grob@uscg.mil.

SUPPLEMENTARY INFORMATON: The Coast Guard will enforce the safety zone listed in 33 CFR 165.935, Safety Zone, Milwaukee Harbor, Milwaukee, WI, for the following events:

(1) Festa Italiana fireworks display on July 19, 2012 from 10:00 p.m. through 10:45 p.m.; on July 20, 2012 from 10:00 p.m. through 10:45 p.m.; on July 21, 2012 from 10:00 p.m. through 10:45 p.m.; on July 22, 2012 from 10:00 p.m. through 10:45 p.m.

(2) German Festival fireworks display on July 27, 2012 from 10:15 p.m. through 11:00 p.m.; on July 28, 2012 from 10:15 p.m. through 11:00 p.m.

(3) Irish Festival fireworks display on August 19, 2012 from 10:15 p.m. through 11:00 p.m.

All vessels must obtain permission from the Captain of the Port, Sector Lake Michigan, or his or her on-scene representative to enter, move within, or exit a safety zone. Vessels and persons granted permission to enter the safety zone shall obey all lawful orders or directions of the Captain of the Port, Sector Lake Michigan, or a designated representative. While within a safety zone, all vessels shall operate at the minimum speed necessary to maintain a safe course.

This notice is issued under authority of 33 CFR 165.935 Safety Zone, Milwaukee Harbor, Milwaukee, WI and 5 U.S.C. 552(a). In addition to this notice in the Federal Register, the Coast Guard will provide the maritime community with advance notification of these enforcement periods via Broadcast Notice to Mariners or Local Notice to Mariners. The Captain of the Port, Sector Lake Michigan will issue a Broadcast Notice to Mariners notifying the public when enforcement of the safety zone established by this section is suspended. If the Captain of the Port, Sector Lake Michigan, determines that the safety zone need not be enforced for the full duration stated in this notice, he or she may use a Broadcast Notice to Mariners to grant general permission to enter the safety zone. The Captain of the Port, Sector Lake Michigan, or his or her on-scene representative may be contacted via VHF Channel 16.

Dated: May 1, 2012.
M.W. Sibley,
Captain, U.S. Coast Guard, Captain of the Port, Sector Lake Michigan.

[FR Doc. 2012-11496 Filed 5-10-12; 8:45 am]

BILLING CODE 9110-04-P